DEPARTMENT OF COMMERCE

International Trade Administration

[A-570-875]

Non-Malleable Cast Iron Pipe Fittings From the People's Republic of China: Continuation of Antidumping Duty Order

AGENCY: Enforcement and Compliance, International Trade Administration, Department of Commerce.

SUMMARY: As a result of the determinations by the Department of Commerce (Commerce) and the International Trade Commission (ITC) that revocation of the antidumping duty (AD) order on non-malleable cast iron pipe fittings (NMPF) from the People's Republic of China (China) would likely lead to a continuation or recurrence of dumping and material injury to an industry in the United States, Commerce is publishing a notice of continuation of the AD order.

DATES: Applicable July 9, 2019.

FOR FURTHER INFORMATION CONTACT: Ariela Garvett, AD/CVD Operations, Office IV, Enforcement and Compliance, International Trade Administration, U.S. Department of Commerce, 1401 Constitution Avenue NW, Washington, DC 20230; telephone: (202) 482-3609.

SUPPLEMENTARY INFORMATION:

Background

On April 7, 2003, Commerce published the notice of the AD order on NMPF from China.¹ On January 2, 2019, the ITC instituted its review of the Order.² On February 5, 2019, Commerce published the initiation of the third sunset review of the Order, pursuant to section 751(c) of the Tariff Act of 1930, as amended (the Act).³ Commerce received a timely notice of intent to participate in this review from Anvil International, LLC and Ward Manufacturing LLC (collectively, the petitioners), a domestic interested party, within the deadline specified in 19 CFR 351.218(d)(1)(i).⁴ On March 7, 2019, Commerce received a complete and adequate substantive response from the petitioners within the 30-day deadline specified in 19 CFR 351.218(d)(3)(i).⁵ Commerce received no substantive responses from respondent interested parties. Pursuant to section 751(c)(3)(B) of the Act, Commerce conducted an expedited (120-day) sunset review of the Order.⁶ On May 10, 2019, the ITC published its notice to conduct an expedited five-year review of the Order.⁷

¹ See Notice of Antidumping Duty Order: Non-Malleable Cast Iron Pipe Fittings from the People's Republic of China, 68 FR 16765 (April 7, 2003) (Order).

² See Non-Malleable Cast Iron Pipe Fittings from the People's Republic of China; Institution of Five-Year Review, 84 FR 14 (January 2, 2019).

³ See Initiation of Five-Year (Sunset) Reviews, 84 FR 1705 (February 5, 2019).

⁴ See Petitioners' Letter, “Non-Malleable Cast Iron Pipe Fittings from the People's Republic of China,” dated February 5, 2019.

⁵ See Petitioners' Letter, “Non-Malleable Cast Iron Pipe Fittings from the People's Republic of China, Third Review: Substantive Response to Notice of Initiation,” dated March 7, 2019.

⁶ See Non-Malleable Cast Iron Pipe Fittings from the People's Republic of China: Final Results of Expedited Third Sunset Review of Antidumping Duty Order, 84 FR 27088 (June 11, 2019) and accompanying Issues and Decision Memorandum (Issues and Decision Memorandum).

⁷ See Non-Malleable Cast Iron Pipe Fittings from the People's Republic of China; Scheduling of an Expedited Five-Year Review, 84 FR 20659 (May 10, 2019).

As a result of its review, Commerce determined, pursuant to section 751(c)(1) of the Act, that revocation of the Order on NMPF from China would likely lead to continuation or recurrence of dumping. Commerce, therefore, notified the ITC of the magnitude of the margin of dumping rates likely to prevail should this Order be revoked.⁸

⁸ See Issues and Decision Memorandum.

On July 1, 2019, the ITC published its determination that revocation of the Order would likely lead to a continuation or recurrence of material injury to an industry in the United States within a reasonably foreseeable time, pursuant to section 751(c) of the Act.⁹

⁹ See Non-Malleable Cast Iron Pipe Fittings from China; Determination, 84 FR 31349 (July 1, 2019); see also Non-Malleable Cast Iron Pipe Fittings from China: Investigation No. 731-TA-990 (Third Review), USITC Publication 4915 (June 2019).

Scope of the Order

The products covered by the Order are finished and unfinished non-malleable cast iron pipe fittings with an inside diameter ranging from ¼ inch to 6 inches, whether threaded or unthreaded, regardless of industry or proprietary specifications. The subject fittings include elbows, ells, tees, crosses, and reducers as well as flanged fittings. These pipe fittings are also known as “cast iron pipe fittings” or “gray iron pipe fittings.” These cast iron pipe fittings are normally produced to ASTM A-126 and ASME B.16.4 specifications and are threaded to ASME B1.20.1 specifications. Most building codes require that these products are Underwriters Laboratories (UL) certified. The scope does not include cast iron soil pipe fittings or grooved fittings or grooved couplings.

Fittings that are made out of ductile iron that have the same physical characteristics as the gray or cast iron fittings subject to the scope above or which have the same physical characteristics and are produced to ASME B.16.3, ASME B.16.4, or ASTM A-395 specifications, threaded to ASME B1.20.1 specifications and UL certified, regardless of metallurgical differences between gray and ductile iron, are also included in the scope of the Order. These ductile fittings do not include grooved fittings or grooved couplings. Ductile cast iron fittings with mechanical joint ends (MJ), or push on ends (PO), or flanged ends and produced to American Water Works Association (AWWA) specifications AWWA C110 or AWWA C153 are not included.

Imports of covered merchandise are classifiable in the Harmonized Tariff Schedule of the United States (HTSUS) under item numbers 7307.11.00.30, 7307.11.00.60, 7307.19.30.60 and 7307.19.30.85. HTSUS subheadings are provided for convenience and customs purposes. The written description of the scope of the Order is dispositive.¹⁰

¹⁰ See Order.

Continuation of the Order

As a result of the determinations by Commerce and the ITC that revocation of the Order would likely lead to a continuation or recurrence of dumping and material injury to an industry in the United States, pursuant to section 751(d)(2) of the Act and 19 CFR 351.218(a), Commerce hereby orders the continuation of this Order on NMPF from China. U.S. Customs and Border Protection will continue to collect AD cash deposits at the rates in effect at the time of entry for all imports of subject merchandise.

The effective date of the continuation of this Order will be the date of publication in the Federal Register of this notice of continuation. Pursuant to section 751(c)(2) of the Act and 19 CFR 351.218(c)(2), Commerce intends to initiate the next five-year review of this Order not later than 30 days prior to the fifth anniversary of the effective date of continuation.

Notification to Interested Parties

This five-year sunset review and this notice are in accordance with section 751(c) of the Act and published pursuant to section 777(i)(1) of the Act and 19 CFR 351.218(f)(4).

Dated: July 2, 2019.
Jeffrey I. Kessler,
Assistant Secretary for Enforcement and Compliance.

[FR Doc. 2019-14561 Filed 7-8-19; 8:45 am]

BILLING CODE 3510-DS-P